DEPARTMENT OF HOUSING AND URBAN DEVELOPMENT

[Docket No. FR-6000-FA-19]

Announcement of Funding Awards for the Self-Help Homeownership Opportunity Program Fiscal Year 2016

AGENCY: Office of the Assistant Secretary for Community Planning and Development, HUD.

ACTION: Notice of funding awards.

SUMMARY: In accordance with section 102(a)(4)(C) of the Department of Housing and Urban Development Reform Act of 1989, this announcement notifies the public of funding decisions made by the Department in a competition for funding under the Notice of Funding Availability (NOFA) for the Self-Help Homeownership Opportunity Program (SHOP). This announcement contains the names of the awardees and the amounts of the awards made available by HUD.

FOR FURTHER INFORMATION CONTACT: Jackie L. Williams, Ph.D., Director, Office of Rural Housing and Economic Development, Office of Community Planning and Development, 451 Seventh Street SW., Room 7240, Washington, DC 20410-7000; telephone (202) 708-2290 (this is not a toll free number). Hearing- and speech-impaired persons may access this number via TTY by calling the Federal Relay Service toll-free at 1-800-877-8339.

SUPPLEMENTARY INFORMATION: SHOP is authorized by Section 11 of the Housing Opportunity Program Extension Act of 1996 (Public Law 104-120, as amended, 42 U.S.C. 12805 note). Funding for this NOFA is provided by the “Transportation, Housing and Urban Development, and Related Agencies Appropriations Act, 2015” (Public Law 113-235, Division K, approved December 16, 2014). The competition was posted to grants.gov (FR-6000-N-19) on Thursday, August 10, 2016. Applications were rated and selected for funding on the basis of selection criteria contained in that notice.

The Catalog of Federal Domestic Assistance number for this Self-Help Homeownership Opportunity Program Appalachia Economic Development Initiative program is 14.247. The Self-Help Homeownership Opportunity Program SHOP funding is intended to facilitate and encourage innovative homeownership opportunities on a national and geographically-diverse basis. The program supports self-help housing programs that require a significant amount of sweat equity by the homebuyer toward the construction or rehabilitation of his or her home. Volunteer labor is also required. Eligible applicants for SHOP funding include national and regional non-profit organizations and consortia with experience facilitating homeownership opportunities on a national, geographically-diverse basis through the provision of self-help homeownership housing programs. The funds made available under this program were awarded competitively through a selection process conducted by HUD.

In accordance with section 102(a) (4) (C) of the Department of Housing and Urban Development Reform Act of 1989 (103 Stat. 1987. 42 U.S.C. 3545), the Department is publishing the grantees and amounts of the awards in Appendix A to this document.

Dated: March 27, 2017.
Clifford Taffet,
General Deputy Assistant Secretary for Community Planning and Development.

Appendix A FY 2016 Self-Help Homeownership Opportunity Program Grantees

emsp;

Grantee | State | Amount awarded
Housing Assistance Council | DC | $1,145,625.00
Tierra Del Sol Housing Corporation (Consortium) | NM | 1,279,200.00
Community Frameworks | WA | 1,676,280.00
Habitat for Humanity International, Inc. | GA | 5,898,895.00

[FR Doc. 2017-07392 Filed 4-11-17; 8:45 am]

BILLING CODE 4210-67-P